DEPARTMENT OF HEALTH AND HUMAN SERVICES

National Institutes of Health

National Heart, Lung, and Blood Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel, Biodegradable Stents.

Date: February 13, 2007.

Time: 2 p.m. tp 3 p.m.

Agenda: To review and evaluate contract proposals.

Place: National Institutes of Health, 6701 Rockledge Drive, Bethesda, MD 20892, (Telephone Conference Call).

Contact Person: Youngsuk Oh, Scientific Review Administrator, National Heart, Lung, and Blood Institute, Two Rockledge Centre, Room 7182, 6701 Rockledge Drive, Bethesda, MD 20817, 301-435-0273, yoh@mail.nih.gov.

Name of Committee: National Heart, Lung, and Blood Institute Special Emphasis Panel, VAD Technologies.

Date: February 20, 2007.

Time: 2 p.m. to 3 p.m.

Agenda: To review and evaluate contract proposals.

Place: National Institutes of Health, 6701 Rockledge Drive, Bethesda, MD 20892, (Telephone Conference Call).

Contact Person: Youngsuk Oh, Scienfic Review Administrator, National Heart, Lung, and Blood Institute, Two Rockledge Centre, Room 7182, 6701 Rockledge Drive, Bethesda, MD 20817, 301-435-0273, yoh@mail.nih.gov.

Name of Committee: National Heart, Lung, and Blood Institute Special Emphasis Panel, Modified Hemoglobin Production.

Date: February 23, 2007.

Time: 8:30 a.m. to 3 p.m.

Agenda: To review and evaluate contract proposals.

Place: Embassy Suites Hotel Washington Covention Ctr, Washington, DC 20001.

Contact Person: Youngsuk Oh, Scienfitic Review Administrator, National Heart, Lung, and Blood Institute, Two Rockledge Centre, Room 7182, 6701 Rockledge Drive, Bethesda, MD 20817, 301-435-0273, yoh@mail.nih.gov.

Name of Committee: National Heart, Lung, and Blood Institute Special Emphasis Panel, Heart Failure Monitoring Clinical Trial.

Date: February 23, 2007.

Time: 2 p.m. to 5 p.m.

Agenda: To review and evaluate grant applications.

Place: National Institutes of Health, 6701 Rockledge Drive, Bethesda, MD 20892, (Telephone Conference Call).

Contact Person: Holly Patton, PhD, Scienfitic Review Administrator, Division of Extramural Research Activities, National Heart, Lung, and Blood Institute, Two Rockledge Centre, Room 7188, 6701 Rockledge Dr, Bethesda, MD 20892, 301-435-0280, pattonh@nhlbi.nih.gov.

(Catalogue of Federal Domestic Assistance Program Nos. 93.233, National Center for Sleep Disorders Research; 93.837, Heart and Vascular Diseases Research; 93.838, Lung Diseases Research; 93.839, Blood Diseases and Resources Research, National Institutes of Health, HHS)

Dated: January 8, 2007.
Anna Snouffer,
Acting Director, Office of Federal Advisory Committee Policy.

[FR Doc. 07-100 Filed 1-11-07; 8:45 am]

BILLING CODE 4140-01-M